NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) Virtual Meeting (1173).

Date and Time: June 10, 2021; 1:00 p.m.-5:30 p.m.; June 11, 2021; 10:00 a.m.-3:30 p.m.

Place: National Science Foundation, 2415 Eisenhower Avenue, Alexandria, VA 22314 (Virtual). Meeting Registration: Virtual attendance information will be forthcoming on the CEOSE website at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

Day 1: June 10, 2021

• Welcome, Introductions, Opening Remarks

• Report of the CEOSE Executive Liaison

• Presentation: Missing Millions and NSF Efforts

• Joint Session with NSB [Focus on STEM Technical Careers]

• Discussion with NSF Director and Chief Operating Officer

• CEOSE Liaison Reports

• Working Session: DCL and Flyer for the 2019-2020 CEOSE Report

Day 2: June 11, 2021

• Welcome and Remarks about Subcommittee: The Future of EPSCoR

• BP Accountability Data

• Presentation: Broadening Participation Research

• Reports of the Federal Liaisons

• Presentation: NSF's Racial Equity Task Force

• Reports of the CEOSE Liaisons

• Announcements, Closing Remarks, and Adjournment

Dated: May 7, 2021.
Crystal Robinson,
Committee Management Officer.

[FR Doc. 2021-10033 Filed 5-11-21; 8:45 am]

BILLING CODE 7555-01-P